ENVIRONMENTAL PROTECTION AGENCY

40 CFR Parts 174 and 180

[EPA-HQ-OPP-2021-0088; FRL-8792-02-OCSPP]

Receipt of Pesticide Petitions Filed for Residues of Pesticide Chemicals in or on Various Commodities (August 2021)

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before September 23, 2021.

ADDRESSES: Submit your comments, identified by docket identification (ID) number and the pesticide petition (PP) of interest as shown in the body of this document, using the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), main telephone number: (703) 305-7090, email address: RDFRNotices@epa.gov; or Charles Smith, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

Amended Tolerance Exemptions for Inerts (Except PIPS)

PP [IN-11513]. (EPA-HQ-OPP-2021-0194). [Spring Regulatory Sciences, 6620 Cypresswood Dr., Suite 250, Spring, TX 77379 on behalf of Nouryon Chemicals LLC, ], requests to amend the exemption from the requirement of a tolerance in 40 CFR part 180 for 910, 930, 940 and 960 [Alcohols, C9-11-iso-, C10-rich, ethoxylated propoxylated] (CAS No. [154518-36-2] when used as a pesticide inert ingredient in pesticide formulations [Joint Inerts Task Force Cluster Support]. The analytical method is available to EPA The petitioner believes no analytical method is needed because [it is not required for an exemption from the requirement of a tolerance]. Contact: [RD].

Amended Tolerances for Non-Inerts

1. PP 1E8909. (EPA-HQ-OPP-2021-0310). The Interregional Research Project #4 (IR-4), Rutgers, The State University of New Jersey, 500 College Road East, Suite 201 W, Princeton, NJ 08540, proposes upon establishment of tolerances referenced in this document under “New Tolerances” for PP# 1E8909, to remove existing tolerances in 40 CFR 180.411 for residues of the herbicide fluazifop-P-butyl, including its metabolites and degradates, in or on the following commodities. Compliance with the tolerance levels specified in the table below is to be determined by measuring only the sum of fluazifop-P-butyl, butyl(R)-2-[4-[[5-(trifluoromethyl)-2-pyridinyl]oxy]phenoxy]propanoate, and the free and conjugated forms of the resolved isomer of fluazifop, (R)-2-[4-[[5-(trifluoromethyl)-2-pyridinyl]oxy]phenoxy]propanoic acid, calculated as the stoichiometric equivalent of fluazifop in or on Fruit, citrus, group 10 at 0.03 ppm; Fruit, stone at 0.05 ppm; Onion, green at 1.5 ppm; Rhubarb at 0.50 ppm; and Strawberry at 3.0 ppm. Contact: RD.

2. PP 0F8865. (EPA-HQ-OPP-2020-0498). BASF Corporation, 26 Davis Drive, Research Triangle Park, NC 27709, requests to amend the tolerance(s) in 40 CFR 180.473 for residues of the herbicide, glufosinate ammonium, determined by measuring the sum of glufosinate ammonium, butanoic acid, 2-amino-4-(hydroxymethylphosphinyl) monoammonium salt, and its metabolites, 2-(acetylamino)-4-(hydroxymethyl phosphinyl) butanoic acid, and 3 (hydroxymethylphosphinyl) propanoic acid, expressed as 2-amino-4 (hydroxymethylphosphinyl) butanoic acid equivalents in or on oilseeds crop subgroup 20C, cottonseed subgroup at 15 ppm and cotton gin byproducts at 50 ppm. The high-performance liquid chromatography-electrospray ionization/tandem mass spectrometry (LC/MS/MS) is used to measure and evaluate the chemical glufosinate ammonium and metabolites of concern. Contact: RD.

New Tolerance Exemptions for Inerts (Except PIPS)

PP [IN-11515]. (EPA-HQ-OPP-2021-0323). [Spring Regulatory Sciences, 6620 Cypresswood Dr, Suite 250, Spring, TX 77379 on behalf of Nouryon Chemicals LLC, ], requests to establish an exemption from the requirement of a tolerance in 40 CFR part 180.910 and 180.930 for residues of [Oxirane, 2-methyl-, polymer with oxirane, mono-C9-11-isoalkyl ethers, C10-rich, phosphates, potassium salts] (CAS Reg. No. [2275654-37-8] when used as a pesticide inert ingredient in pesticide formulations [Joint Inerts Task Force Cluster Support]. The analytical method is available to EPA The petitioner believes no analytical method is needed because [it is not required for an exemption from the requirement of a tolerance]. Contact: [RD].

New Tolerances for Non-Inerts

1. PP 0E8874. (EPA-HQ-OPP-2021-0434). BASF Corporation, 26 Davis Drive, Research Triangle Park, NC 27709, requests to establish a tolerance in 40 CFR part 180 for residues of the insecticide teflubenzuron in or on grape at 0.7 parts per million (ppm) and grape, raisin at 0.9 ppm. The Liquid Chromatography with Tandem Mass Spectrometry Detection (LC-MS/MS) is used to measure and evaluate the teflubenzuron residues. Contact: RD.

2. PP 1E8908. (EPA-HQ-OPP-2021-0453). Syngenta Crop Protection, LLC., P.O. Box 18300, Greensboro, NC 27419-8300, requests to establish a tolerance in 40 CFR part 180.565 for residues of the insecticide, Thiamethoxam {3-[(2-chloro-5-thiazolyl)methyl]tetrahydro-5-methyl-N-nitro-4H-1,3,5-oxadiazin-4-imine} and it's metabolite [N-(2-chloro-thiazol-5-ylmethyl)-N'-methyl-N'-nitro-guanidine], in or on pineapple at 0.03 parts per million (ppm) and 0.05 ppm for pineapple, process, residue. Liquid chromatography with either UV or MS detections is used to measure and evaluate the chemical thiamethoxam and the metabolite, CGA-322704. Contact: RD.

3. PP 1E8909. (EPA-HQ-OPP-2021-0310). The Interregional Research Project #4 (IR-4), Rutgers, The State University of New Jersey, 500 College Road East, Suite 201 W, Princeton, NJ 08540, requests to establish a tolerance in 40 CFR part 180.411 for residues of the herbicide fluazifop-P-butyl, including its metabolites and degradates, in or on the following commodities. Compliance with the tolerance levels specified in the table below is to be determined by measuring only the sum of fluazifop-P-butyl, butyl(R)-2-[4-[[5-(trifluoromethyl)-2-pyridinyl]oxy]phenoxy]propanoate, and the free and conjugated forms of the resolved isomer of fluazifop, (R)-2-[4-[[5-(trifluoromethyl)-2-pyridinyl]oxy]phenoxy]propanoic acid, calculated as the stoichiometric equivalent of fluazifop in or on Berry, low growing, subgroup 13-07G at 3 parts per million (ppm); Brassica, leafy greens, subgroup 4-16B at 15 ppm; Chive, dried leaves at 40 ppm; Fruit, citrus, group 10-10 at 0.03 ppm; Fruit, stone, group 12-12 at 0.05 ppm; Leaf petiole vegetable subgroup 22B at 3 ppm; Onion, green, subgroup 3-07B at 4 ppm; Papaya at 0.01 ppm; and Vegetable, brassica, head and stem, group 5-16 at 30 ppm. The LC-MS/MS is used to measure and evaluate the chemical. Contact: RD.

4. PP 0F8857. (EPA-HQ-OPP-2021-0290). Taminco US LLC, a subsidiary of Eastman Chemical Company, 200 S Wilcox Drive, Kingsport, TN 37660-5147, requests to establish a tolerance in 40 CFR part 180 for residues of the fungicide chlormequat chloride in or on the raw agricultural commodities barley grain at 8 parts per million (ppm), eggs at 0.1 ppm, meat byproducts of cattle at 0.7 ppm, meat of cattle at 0.2 ppm, meat byproducts of goats at 0.7 ppm, meat of goats at 0.2 ppm, meat byproducts of hogs at 0.5 ppm, meat of hogs at 0.2 ppm, meat byproducts of sheep at 0.7 ppm, meat of sheep at 0.2 ppm, milk at 0.5 ppm, poultry meat byproducts at 0.1 ppm, poultry meat at 0.05 ppm, oat grain at 40 ppm, triticale grain at 5 ppm, and wheat grain at 5 ppm. The validated LC-MS/MS method is used to measure and evaluate the chemical residues of chlormequat chloride in plants and animal products. Contact: OPP-RD.

5. PP 0F8875. (EPA-HQ-OPP-2021-0352). Dow Agrosciences, 9330 Zionsville Road, Indianapolis, IN 46268, requests to establish a tolerance in 40 CFR part 180 for residues of the nitrification inhibitor][Nitrapyrin [2-chloro-6-(trichloroethyl) pyridine] and its metabolite, 6-chloropicolinic acid (6-CPA) in or on: Cottonseed (crop subgroup 20C) at 4.0 parts per million (ppm); cotton, gin byproducts at 0.6 ppm; cotton. Meal at 6.0 ppm; rice, grain at 0.03 ppm; and rice, straw at 0.15 ppm. The validated liquid chromatography with tandem mass spectrometry (LC-MS/MS) method is used to measure and evaluate the chemical residues of nitrapyrin and 6-CPA). Contact: AD.

6. PP 1F8912. (EPA-HQ-OPP-2021-0435). Bayer CropScience, 800 N. Lindbergh Blvd., St. Louis, MO 63167, requests to establish a tolerance in 40 CFR part 180 for residues of the herbicide, diflufenican (N-(2,4-difluorophenyl)-2-[3-(trifluoromethyl)phenoxy]-3-pyridinecarboxamide) in or on Soybean, forage at 0.015 parts per million (ppm), Soybean, hay at 0.02 ppm, Soybean, seed at 0.01 ppm, Corn, forage at 0.01 ppm, Corn, grain at 0.01 ppm, and Corn, stover at 0.01 ppm. High performance liquid chromatography-electrospray ionization/tandem mass spectrometry (LC/MS/MS) is used to measure and evaluate the chemical diflufenican. Contact: RD.

7. PP 1F8917. (EPA-HQ-OPP-2021-0400). Syngenta Crop Protection, LLC, P.O. Box 18300, Greensboro, NC 27419, requests to establish a tolerance in 40 CFR part 180 for residues of the fungicide Picarbutrazox ((1,1-dimethylethylN-[6-[[[(Z)-[1-methyl-1H-tetrazol-5-yl)phenylmthylene]amino]oxy]methyl]-2-pyridinyl]carbamate) in or on Barley, grain at 0.01 parts per million (ppm); Barley, hay at 0.01 ppm; Barley, straw at 0.01 ppm; Bean, forage at 0.01 ppm; Bean, hay at 0.01 ppm; Buckwheat, forage at 0.01 ppm; Buckwheat, grain at 0.01 ppm; Buckwheat, hay at 0.01 ppm; Buckwheat, straw at 0.01 ppm; Cotton at 0.01 ppm; Cotton, gin byproducts at 0.01 ppm; Cotton, undelinted seed at 0.01 ppm; Herb group 25 at 0.01 ppm; Millet, pearl, forage at 0.01 ppm; Millet, pearl, grain at 0.01 ppm; Millet, pearl, hay at 0.01 ppm; Millet, pearl, straw at 0.01 ppm; Millet, proso, forage at 0.01 ppm; Millet, proso, grain at 0.01 ppm; Millet, proso, hay at 0.01 ppm; Millet, proso, straw at 0.01 ppm; Oat, forage at 0.01 ppm; Oat, hay at 0.01 ppm; Oat, straw at 0.01 ppm; Oat, grain at 0.01 ppm; Pea, hay at 0.01 ppm; Pea, vines at 0.01 ppm; Rapeseed subgroup 20A at 0.01 ppm; Rye, forage at 0.01 ppm; Rye, grain at 0.01 ppm; Rye, hay at 0.01 ppm; Rye, straw at 0.01 ppm; Sorghum at 0.01 ppm; Spice group 26 at 0.01 ppm; Spinach at 0.01 ppm; Teosinte, forage at 0.01 ppm; Teosinte, grain at 0.01 ppm; Teosinte, hay at 0.01 ppm; Teosinte, straw at 0.01 ppm; Triticale, forage at 0.01 ppm; Triticale, grain at 0.01 ppm; Triticale, hay at 0.01 ppm; Triticale, straw at 0.01 ppm; Vegetable, brassica, head and stem, group 5-16 at 0.01 ppm; Vegetable, bulb, group 3-07 at 0.01 ppm; Vegetable, cucurbit, group 9 at 0.01 ppm; Vegetable, leafy, group 4-16, except spinach at 0.01 ppm; Vegetable, leaves of root and tuber, group 2 at 0.01 ppm; Vegetable, legume, group 6 at 0.01 ppm; Vegetable, fruiting, group 8-10 at 0.01 ppm; Vegetable, root and tuber, group 1, except potato at 0.01 ppm; Vegetable, stalk, stem, and leaf petiole group 22 at 0.01 ppm; Wheat, forage at 0.01 ppm; Wheat, grain at 0.01 ppm; Wheat, hay at 0.01 ppm; and Wheat, straw at 0.01 ppm. The “AOAC Official Method 2007.1” method, which uses LC-MS/MS, is used to measure and evaluate the chemical picarbutrazox and its metabolites, TZ-1E, TZ-2-β-Glc, TZ-5, and TZ-5-Glc. Contact: RD.

8. PP 1F8925. (EPA-HQ-OPP-2021-0432). Valent U.S.A. LLC, 4600 Norris Canyon Road, P.O. Box 5075, San Ramon, CA 94583-0975, requests to establish a tolerance in 40 CFR part 180 for residues of the fungicide Mandestrobin (2 RS)-2-{2-[(2,5-dimethylphenoxy)methyl]phenyl}-2-methoxy-N-methylacetamide in or on Rapeseed subgroup 20A, seed at 0.2 parts per million (ppm). An independently validated analytical method with appropriate sensitivity is used to measure and evaluate the chemical mandestrobin. Contact: RD.

Authority: 21 U.S.C. 346a.

Dated: August 11, 2021.
Delores Barber,
Director, Information Technology and Resources Management Division, Office of Program Support.

[FR Doc. 2021-17894 Filed 8-23-21; 8:45 am]

BILLING CODE 6560-50-P